DEPARTMENT OF THE INTERIOR

Fish and Wildlife Service

Aquatic Nuisance Species Task Force Western Regional Panel

AGENCY: Fish and Wildlife Service, Interior.

ACTION: Notice of workshop and meeting.

SUMMARY: This notice announces a meeting of the Aquatic Nuisance Species (ANS) Task Force Western Regional Panel and an Invasive Species Screening Process workshop. The meeting topics and workshop agenda are identified in the SUPPLEMENTARY INFORMATION.

DATES: The Invasive Species Screening Process workshop will be held from 8:30 a.m. to 4:30 p.m., Tuesday, January 8, 2002, and 9 a.m. to noon, Wednesday, January 9, 2002. The Western Regional Panel will meet from 1:00 p.m. to 5:00 p.m., Wednesday, January 9, 2002, and 9 a.m. to 4:30 p.m., Thursday, January 10, 2002.

ADDRESSES: The Invasive Species Screening Process workshop and the Western Regional Panel meeting will be held at the Hotel San Remo, 115 East Tropicana Avenue, Las Vegas, Nevada 89109. Phone 800-522-7366.

FOR FURTHER INFORMATION CONTACT: Tina Proctor, Aquatic Nuisance Species Coordinator, at 303-236-7862 ext 260 or by e-mail at bettina_proctor@fws.gov; or Sharon Gross, Executive Secretary, Aquatic Nuisance Species Task Force at 703-358-2308 or by e-mail at sharon_gross@fws.gov.

SUPPLEMENTARY INFORMATION: Pursuant to section 10(a)(2) of the Federal Advisory Committee Act (5 U.S.C. App. I), this notice announces a meeting of the Aquatic Nuisance Species Task Force Western Regional Panel and an Invasive Species Screening Process workshop. The Task Force was established by the Nonindigenous Aquatic Nuisance Prevention and Control Act of 1990 (16U.S.C. 4701-4741). The purpose of the Invasive Species Screening Process workshop is to discuss methods for screening nonindigenous invasive species imported for sale or introduced into natural water bodies. A goal of the workshop is to bring affected parties together to discuss cooperative options to prevent the introduction of invasive species. Topics to be covered during the workshop include shipping industry perspective for the importation of invasive species; perspectives from nursery, pet, and aquaculture industries; Australia's invasive species screening program; Federal screening process and under development by the National Invasive Species Council and the ANS Task Force; an overview of screening programs in Washington, Oregon, and Hawaii; and a panel discussion on developing an invasive species screening process. The Western Regional Panel will discuss several topics including: Facilitation of State Aquatic Nuisance Species Management Plans; development of a rapid response plan; and development of a brochure and display; an update on aquatic nuisance species activities from individual states; a summary of the Invasive Species Screening Process workshop; a review of the new work plan and budget; NISA reauthorization; and updates on West Coast ballast water 100th Meridian initiative, and Lewis and Clark activities.

Minutes of the meeting will be maintained by the Executive Secretary, Aquatic Nuisance Species Task Force, Suite 810, 4401 North Fairfax Drive, Arlington, Virginia 22203-1622 and will be available for public inspection during regular business hours, Monday through Friday.

Dated: December 17, 2001.
Cathleen I. Short,
Co-Chair, Aquatic Nuisance Species Task Force, Assistant Director—Fisheries and Habitat Conservation.

[FR Doc. 01-32096 Filed 12-28-01; 8:45 am]

BILLING CODE 4310-55-M